DEPARTMENT OF ENERGY

Federal Energy Regulatory Commission

[Docket No. RP01-124-001]

Algonquin Gas Transmission Company; Notice of Compliance Filing

January 24, 2001.

Take notice that on January 16, 2001, Algonquin Gas Transmission Company (Algonquin) tendered its filing in compliance with the Commission's letter order in Docket No. RP01-124-000 [93 FERC 61,318 (2000)] issued on December 29, 2000 (December 29 Order).

Algonquin states that the purpose of this filing is to comply with the requirements of the December 29 Order to submit a revised, executed service agreement between Algonquin and US GEN New England, Inc. (USGen) for firm lateral service that conforms to the Rate Schedule AFT-CL form of service agreement contained in Algonquin's tariff and a statement detailing the rate and term of the prearranged capacity release to USGen under Rate Schedule AFT-CL.

Algonquin also states that copies of the filing were mailed to all parties to Docket No. RP01-124-000 and also all affected customers and interested state commissions.

Any person desiring to protest said filing should file a protest with the Federal Energy Regulatory Commission, 888 First Street, N.E., Washington, D.C. 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-2554 Filed 1-29-01; 8:45 am]

BILLING CODE 6717-01-M